DEPARTMENT OF DEFENSE

Office of the Secretary

Board of Visitors Meeting

AGENCY: Defense Acquisition University.

ACTION: Board of Visitors meeting.

SUMMARY: The next meeting of the Defense Acquisition University (DAU) Board of Visitors (BoV) will be held at Defense Acquisition University, Capital and Northeast Region, 9820 Belvoir Road, Fort Belvoir, Virginia, from 0900-1500. The purpose of this meeting is to report back to the BoV on continuing items of interest.

DATES: April 16, 2003 from 0900-1500.

FOR FURTHER INFORMATION CONTACT: Ms. Diane Reid at 703-805-5133.

SUPPLEMENTARY INFORMATION: The meeting is open to the public; however, because of space limitations, allocation of seating will be made on a first-come, first-served basis. Persons desiring to attend the meeting should call Ms. Diane Reid at 703-805-5133.

Dated: March 11, 2003.
Patricia L. Toppings,
Alternate OSD Federal Register Liaison Officer.

[FR Doc. 03-7096 Filed 3-25-03; 8:45 am]

BILLING CODE 5001-08-M